DEPARTMENT OF ENERGY

Federal Energy Regulatory Commission

[Docket No. RM01-5-000]

Electronic Tariff Filings; Notice of Posting of Information and Establishment of RSS Feed

February 23, 2009.

In Order No. 714,¹ the Commission adopted regulations requiring that, as of April 1, 2010, tariff and tariff related filings must be made electronically according to a set of protocols and standards. A Web site (http://www.ferc.gov/docs-filing/etariff.asp) and an e-mail address (etariff@ferc.gov) have been established to provide information, and respond to questions, about the protocols and standards.

¹ Electronic Tariff Filings, Order No. 714, 73 FR 57515 (Oct. 3, 2008), 124 FERC ¶ 61,270 (Sept. 19, 2008).

The information on the Web site needs to be updated and revised from time to time. Answers to the questions received through e-mail also may be of value to software providers and companies other than the requester. In order to ensure that all vendors and providers have access to this information, the questions and answers will be posted on the Web site under the “Staff's Response to Discussion Questions” link. Similar questions may be grouped together with a single response.

The following revised documents are being posted: Preliminary FERC eTariff Rules Table, Type of Filing, Attachment Reference Code, and Staff's Response to Discussion Questions. The Staff's Response to Discussion Questions has been revised to organize better the previous information posted with respect to the December 3, 2008 technical conference and to add additional information. In addition, the dates on which each item is revised will be listed so that viewers can more easily determine the new items that have been added as the document is revised.

Because these documents will be updated and revised on a regular basis, a Secretary's Notice will not be published for every change made on the eTariff Web site. Instead, an RSS feed has been established for the Web site so that software companies and vendors can be alerted when information on the site is revised. Anyone may subscribe to the RSS feed which is located at http://www.ferc.gov/xml/etariff.xml.

For further information, please contact Keith Pierce at 202-502-8525 or by sending an e-mail to ETariff@ferc.gov.

Kimberly D. Bose,
Secretary.

[FR Doc. E9-4245 Filed 2-26-09; 8:45 am]

BILLING CODE 6717-01-P